DEPARTMENT OF EDUCATION

Office of Special Education and Rehabilitative Services; Overview Information; Technology and Media Services for Individuals With Disabilities—Research and Development Center on Digital Images and Graphic Content in Accessible Instructional Materials; Notice Inviting Applications for New Awards for Fiscal Year (FY) 2010

Catalog of Federal Domestic Assistance (CFDA) Number: 84.327B.

Dates: Applications Available: August 20, 2009.

Deadline for Transmittal of Applications: October 19, 2009.

Deadline for Intergovernmental Review: December 18, 2009.

Full Text of Announcement

I. Funding Opportunity Description

Purpose of Program: The purposes of the Technology and Media Services for Individuals with Disabilities program are: (1) To improve results for children with disabilities by promoting the development, demonstration, and use of technology; (2) to support educational media services activities designed to be of educational value in the classroom setting to children with disabilities; and (3) to provide support for captioning and video description of educational materials that are appropriate for use in the classroom setting.

Priority: In accordance with 34 CFR 75.105(b)(2)(v), this priority is from allowable activities specified in the statute (see sections 674 and 681(d) of the Individuals with Disabilities Education Act (IDEA), 20 U.S.C. 1474 and 1481(d)).

Absolute Priority: For FY 2010 and any subsequent year in which we make awards from the list of unfunded applicants from this competition, this priority is an absolute priority. Under 34 CFR 75.105(c)(3) we consider only applications that meet this priority.

This priority is:

Technology and Media Services for Individuals With Disabilities—Research and Development Center on Digital Images and Graphic Content in Accessible Instructional Materials.

Background:

Section 612(a)(23) of IDEA requires States to provide instructional materials in accessible formats to students who are blind or have print disabilities in a timely manner. Section 613(a)(6) of IDEA includes a similar requirement for local educational agencies (LEAs). In the process of implementing the accessible instructional materials (AIM) provisions under IDEA, States, LEAs, and the accessible media producers (AMPs) who States and LEAs employ to convert instructional materials into accessible formats have encountered barriers to the production of high-quality AIM, including limits to the technology available to produce AIM with appropriate graphic content, such as pictures, tables, and graphs. In addition, most currently available assistive technology devices, including text-to-speech readers, and software used by students to access digital files, do not provide access to images and graphic content.

Students' access to high-quality AIM, including images and graphic content, is integral to their successful progress in the general education curriculum. Images and graphic content make up a significant portion of the information available in textbooks (Beaver and Oddo, 2005). For example, one eighth grade social studies textbook included 394 photographs and 372 graphics (i.e., charts, maps, timelines, diagrams, and graphs) (Baker, 2004). The images and graphic content of this print textbook supplemented the content in the written text and also presented instructional content that was not included in the textual material. However, this content is often not accessible to students who are blind or have print disabilities. Therefore, these students do not have the same access to the curriculum as their non-disabled peers.

Currently, there are major barriers to ensuring that students who are blind or have print disabilities can access written instructional materials and text that include images and graphic content. First, the production of images and graphic content in AIM, including tactile graphics and verbal descriptions, can be time consuming and costly. Second, most assistive devices and software do not provide access to the images and graphic content and for those that do, the quality of the images and graphic content displays is not comparable to the quality of the images and graphic content included in standard print instructional materials (Bullen, 2008; Chiari, 2004; Davies, Stock, King, & Weymeyer, 2008; Unsworth, 2004; Warren, 2009). Since students who are blind or have print disabilities have inadequate and limited access to images and graphic content in AIM, they are at a disadvantage compared to their non-disabled peers.

The Department of Education (Department) currently funds three projects that produce and disseminate AIM in multiple formats to students with disabilities: The American Printing House for the Blind (http://www.aph.org/), Recording for the Blind and Dyslexic (RFB&D) (http://www.rfbd.org), and Bookshare for Education (B4E) (http://www.bookshare.org/). These projects, funded by the Office of Special Education Programs (OSEP), and other AMPs produce images and graphic content in the following formats: (1) Visual displays that may be modified for accessibility (e.g., magnification, increased contrast, color content, etc.); (2) images and graphic descriptions in auditory, print, and braille formats; (3) tactile images and graphics; and (4) combinations of these formats. Because the production of high-quality images and graphic content in accessible formats is time-consuming, costly, and requires high levels of skill and content knowledge to develop, States and LEAS are having difficulty both including these images and graphic content in AIM and meeting the statutory requirement to deliver AIM in a timely manner to students who are blind or have print disabilities. In addition, software used by students to convert electronic files into accessible formats such as refreshable braille, digital audio, synthetic speech, and digital text often does not convey content included in images and graphics. OSEP intends to fund a center that will implement a rigorous program of research and development to improve both the cost, quality, usability, and availability of images and graphic content in AIM and the devices and software used to access that content.

Priority

The purpose of this priority is to fund a cooperative agreement to support the establishment and operation of a Research and Development Center on Digital Images and Graphic Content in AIM (Center). The Center must conduct a systematic program of research to determine: (1) The availability and technological adequacy of current evidence-based technologies used to produce high-quality images and graphic content for AIM; (2) the availability, level of consumer usage, and adequacy of current devices and software used to access these images and the graphic content; and (3) the cost, quality, usability, and availability of both these images and this graphic content and the devices and software used to access them. The Center must apply the evidence and knowledge resulting from this research as it plans and conducts development activities to improve the effectiveness and efficiency of technologies used to produce AIM that include images and graphic content, and as it develops or modifies devices and software used by students who are blind or have print disabilities to access electronic files containing instructional materials that include images and graphic content.

To be considered for funding under this absolute priority, applicants must meet the application requirements contained in this priority. All projects funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: The following Web site provides more information on logic models and lists multiple online resources: http://www.cdc.gov/eval/resources.htm.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for a summative evaluation to be conducted by an independent third party;

(e) A budget for attendance at the following:

(1) A 1½-day kick-off meeting to be held in Washington, DC, within four weeks after receipt of the award, and an annual planning meeting held in Washington, DC, with the OSEP Project Officer during each subsequent year of the project period.

(2) A three-day Project Directors' Conference in Washington, DC, during each year of the project period.

(3) A three-day Technology Project Directors' Conference in Washington, DC, during each year of the project period.

(4) Two two-day trips annually to attend Department briefings, Department-sponsored conferences, and other meetings, as requested by OSEP; and

(f) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

(a) Establish a technical advisory and review panel made up of publishers; AMPs; State educational agency (SEA) and local educational agency (LEA) representatives; institutions of higher education (IHEs) representatives; consumers; and technology developers, vendors, and others with expertise in AIM production, devices, and software. The technical review panel must meet at least one time each year of the project. The project must submit the names of the panel members to the OSEP project officer for approval within 30 days of the start of the award.

(b) Evaluate current technologies that are used to produce images and graphic content in digital files in order to make that content accessible to students who are blind or have print disabilities. These technologies include conversion of images and graphics into digital formats such as Joint Photographic Experts Group (JPEG), portable network graphics (PNG), and scalable vector graphics (SVG) files; video description; and other digital representations of images and graphics that can be used to provide accessibility.

(c) Evaluate current devices and software that provide access to images and graphic content in digital formats. These technologies include devices and software for reading digital formats, refreshable braille displays, enlarged displays, and other devices and software that provide access to digital images and graphic content, such as programs that convert text to speech.

(d) Collaborate with publishers; AMPs; SEAs; LEAs; consumers; and technology developers, vendors, and others with expertise in AIM production, devices, and software—

(1) To develop new or modify current technologies for producing high-quality images and graphic content for AIM; and

(2) To develop new or modify currently available devices and software used to access AIM that includes high- quality images and graphic content.

(e) Select field-test sites and participants for assessing the cost, quality, usability, and availability of the technologies, including devices and software products that are developed or modified by the Center. The final selection of field-test sites must be approved by the OSEP Project Officer before participation agreements are finalized between the sites and the Center.

(f) Maintain a Web site that meets government or industry-recognized standards for accessibility and that links to the Web site operated by the Technical Assistance Coordination Center (TACC).

(g) Prepare and disseminate reports, documents, and other materials on:

(1) Current technologies used to produce images and graphic content for AIM.

(2) Currently available devices and software used to access AIM, including images and graphic content.

(3) Processes related to the development or modification of:

(i) Technologies used in producing images and graphic content for AIM.

(ii) Devices and software used to access AIM, including images and graphic content;

(4) Any devices or software developed or modified by the Center; and

(5) Related topics, as requested by OSEP, for specific audiences, including AMPs; SEAs; LEAs; consumers; families of students with disabilities; and technology developers, vendors, and others with expertise in AIM production, devices and software. In consultation with the OSEP Project Officer and the advisory committee established in accordance with paragraph (a) of this section, the Center must make selected reports, documents, and other materials available in formats appropriate for students and families.

(h) Communicate and collaborate, on an ongoing basis, with OSEP-funded projects, including the National Instructional Materials Access Center (NIMAC), the National Instructional Materials Accessibility Standard (NIMAS) Development Center, the NIMAS Technical Assistance Center, B4E, RFB&D, and TACC. This collaboration could include the joint development of products, participation in field-testing, and regular communications and updates on Center activities.

(i) Prior to developing any new product, whether paper or electronic, submit to the OSEP Project Officer and the Proposed Product Advisory Board at OSEP's TACC for approval, a proposal describing the content and purpose of the product.

(j) Maintain ongoing communication with the OSEP Project Officer through biweekly phone conversations and e-mail communication.

Fourth and Fifth Years of the Project

In deciding whether to continue funding the Center for the fourth and fifth years, the Secretary will consider the requirements of 34 CFR 75.253(a), and in addition—

(a) The recommendation of a review team consisting of experts selected by the Secretary. This review will be conducted during a one-day meeting in Washington, DC, that will be held during the last half of the second year of the project period. The Center must budget for travel expenses associated with this one-day intensive review;

(b) The timeliness and effectiveness with which all requirements of the negotiated cooperative agreement have been or are being met by the Center; and

(c) The quality, relevance, and usefulness of the Center's activities and products and the degree to which the Center's activities and products have contributed to changed practice and improved student access to the general education curriculum through improved access to high-quality accessible instructional materials and devices.

References

Baker, L. Textbooks for blind students come alive. (2004, February 26). UB Reporter, p. 1.

Beaver, K. A., & Oddo, C. (2005). Final report: Instant access to braille. Retrieved from University of Buffalo, Center for Assistive Technology Web site: http://www.cat.buffalo.edu/refreshablebraille/final_report.php.

Bullen, A. (2008, October). The “Long Tale”: Using Web 2.0 concepts to enhance digital collections. Computers in Libraries, 28 (9), 31-35.

Chiari, A. (2004, October). Ten things TLs should know about video description. Teacher Librarian, 32 (1), p. 35.

Davies, D. K., Stock, S. E., King, L. R., & Wehmeyer, M. L. (2008, August). Moby-Dick is my favorite: Evaluating a cognitively accessible portable reading system for audiobooks for individuals with intellectual disability. Intellectual and Developmental Disabilities, 46 (4), 290-298.

Unsworth, L. (2004, Summer). Comparing school science explanations in books and computer-based formats: The role of images, image/text relations and hyperlinks. International Journal of Instructional Media, 31 (3) p. 283.

Warren, J. (2009). Innovation and the future of e-books. The International Journal of the Book, 6 (1), 83-94.

Waiver of Proposed Rulemaking: Under the Administrative Procedure Act (APA) (5 U.S.C. 553), the Department generally offers interested parties the opportunity to comment on proposed priorities. Section 681(d) of IDEA, however, makes the public comment requirements of the APA inapplicable to the priority in this notice.

Program Authority: 20 U.S.C. 1474 and 1481(d).

Applicable Regulations: The Education Department General Administrative Regulations (EDGAR) in 34 CFR parts 74, 75, 77, 79, 80, 81, 82, 84, 85, 86, 97, 98, and 99.

Note: The regulations in 34 CFR part 79 apply to all applicants except Federally recognized Indian Tribes.

Note: The regulations in 34 CFR part 86 apply to IHEs only.

II. Award Information

Type of Award: Cooperative Agreement.

Estimated Available Funds: The Administration has requested $30,949,000 for the Technology and Media Services for Individuals with Disabilities program for FY 2010, of which we intend to use an estimated $1,000,000 for the Research and Development Center on Digital Images and Graphic Content in Accessible Instructional Materials competition. The actual level of funding, if any, depends on final congressional action. However, we are inviting applications to allow enough time to complete the grant process if Congress appropriates funds for this program.

Contingent upon the availability of funds and the quality of applications, we may make additional awards in FY 2011 from the list of unfunded applicants from this competition.

Maximum Awards: We will reject any application that proposes a budget exceeding $1,000,000 for a single budget period of 12 months. The Assistant Secretary for Special Education and Rehabilitative Services may change the maximum amount through a notice published in the Federal Register.

Estimated Number of Awards: 1.

Note: The Department is not bound by any estimates in this notice.

Project Period: Up to 60 months.

III. Eligibility Information

1. Eligible Applicants: SEAs; LEAs, including public charter schools that are considered LEAs under State law; IHEs; other public agencies; private nonprofit organizations; outlying areas; freely associated States; Indian Tribes or Tribal organizations; and for-profit organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the project (see section 682(a)(1)(A) of IDEA).

IV. Application and Submission Information

1. Address to Request Application Package: Education Publications Center (ED Pubs), P.O. Box 1398, Jessup, MD 20794-1398. Telephone, toll free: 1-877-433-7827. FAX: (301) 470-1244. If you use a telecommunications device for the deaf (TDD), call, toll free: 1-877-576-7734.

You can contact ED Pubs at its Web site, also: http://www.ed.gov/pubs/edpubs.html or at its e-mail address: edpubs@inet.ed.gov.

If you request an application package from ED Pubs, be sure to identify this competition as follows: CFDA number 84.327B.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition. Page Limit: The application narrative (Part III of the application) is where you, the applicant, address the selection criteria that reviewers use to evaluate your application. You must limit the application narrative to the equivalent of no more than 50 pages, using the following standards:

• A “page” is 8.5″ × 11″, on one side only, with 1″ margins at the top, bottom, and both sides.

• Double space (no more than three lines per vertical inch) all text in the application narrative, including titles, headings, footnotes, quotations, references, abstracts, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit or if you apply other standards and exceed the equivalent of the page limit.

3. Submission Dates and Times:

Applications Available: August 20, 2009.

Deadline for Transmittal of Applications: October 19, 2009.

Applications for grants under this competition may be submitted electronically using the Electronic Grant Application System (e-Application) accessible through the Department's e-Grants site, or in paper format by mail or hand delivery. For information (including dates and times) about how to submit your application electronically, or in paper format by mail or hand delivery, please refer to section IV. 6. Other Submission Requirements of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice.

Deadline for Intergovernmental Review: December 18, 2009.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications

If you choose to submit your application to us electronically, you must use e-Application, accessible through the Department's e-Grants Web site at: http://e-grants.ed.gov.

While completing your electronic application, you will be entering data online that will be saved into a database. You may not e-mail an electronic copy of a grant application to us.

Please note the following:

• Your participation in e-Application is voluntary.

• You must complete the electronic submission of your grant application by 4:30:00 p.m., Washington, DC time, on the application deadline date. E-Application will not accept an application for this competition after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you submit your application in paper format.

• You must submit all documents electronically, including all information you typically provide on the following forms: the Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of System Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under For Further Information Contact (see VII. Agency Contact) or (2) the e-Grants help desk at 1-888-336-8930. If e-Application is unavailable due to technical problems with the system and, therefore, the application deadline is extended, an e-mail will be sent to all registered users who have initiated an e-Application.

Extensions referred to in this section apply only to the unavailability of e-Application. If e-Application is available, and, for any reason, you are unable to submit your application electronically or you do not receive an automatic acknowledgment of your submission, you may submit your application in paper format by mail or hand delivery in accordance with the instructions in this notice.

b. Submission of Paper Applications by Mail

If you submit your application in paper format by mail (through the U.S. Postal Service or a commercial carrier), you must mail the original and two copies of your application, on or before the application deadline date, to the Department at the following address: U.S. Department of Education, Application Control Center, Attention: (CFDA Number 84.327B), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address: U.S. Department of Education, Application Control Center, Attention: (CFDA Number 84.327B), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this competition are from 34 CFR 75.210 and are listed in the application package.

2. Review and Selection Process: In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within the specific groups. This procedure will make it easier for the Department to find peer reviewers by ensuring that greater numbers of individuals who are eligible to serve as reviewers for any particular group of applicants will not have conflicts of interest. It also will increase the quality, independence, and fairness of the review process while permitting panel members to review applications under discretionary grant competitions for which they also have submitted applications. However, if the Department decides to select an equal number of applications in each group for funding, this may result in different cut-off points for fundable applications in each group.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technology and Media Services for Individuals with Disabilities program. These measures focus on the extent to which projects provide high-quality products and services, are relevant to improving outcomes for children with disabilities, and contribute to improving outcomes for children with disabilities. We will collect data on these measures from the project funded under this competition.

The grantee will be required to report information on its project's performance in annual reports to the Department (34 CFR 75.590).

VII. Agency Contact

For Further Information Contact: Glinda Hill, U.S. Department of Education, 400 Maryland Avenue, SW., Room 4063, PCP, Washington, DC 20202-2550. Telephone: (202) 245-7376.

If you use a TDD, call the Federal Relay Service (FRS), toll free, at 1-800-877-8339.

VIII. Other Information

Accessible Format: Individuals with disabilities can obtain this document and a copy of the application package in an accessible format (e.g., Braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Andrew J. Pepin, Executive Administrator for the Office of Special Education and Rehabilitative Services to perform the functions of the Assistant Secretary for Special Education and Rehabilitative Services.

Dated: August 14, 2009.
Andrew J. Pepin,
Executive Administrator for Special Education and Rehabilitative Services.

[FR Doc. E9-20050 Filed 8-19-09; 8:45 am]

BILLING CODE 4000-01-P